ENVIRONMENTAL PROTECTION AGENCY

[ER-FRL-9019-5]

Environmental Impact Statements; Notice of Availability

Responsible Agency: Office of Federal Activities, General Information (202) 564-7146 or http://www.epa.gov/compliance/nepa/.

Weekly receipt of Environmental Impact Statements

Filed 02/02/2015 Through 02/06/2015

Pursuant to 40 CFR 1506.9.

Notice

Section 309(a) of the Clean Air Act requires that EPA make public its comments on EISs issued by other Federal agencies. EPA's comment letters on EISs are available at: http://www.epa.gov/compliance/nepa/eisdata.html.

EIS No. 20150028, Final EIS, USFS, ID,Clear Creek Integrated Restoration Project, Review Period Ends: 03/16/2015, Contact:Lois Hill 208-935-4257.

EIS No. 20150029, Final EIS, USFS, 00,Greater Sage Grouse Bi-State Distinct Population Segment Forest Plan Amendment, Review Period Ends: 04/07/2015, Contact: James Winfrey 775-355-5308.

EIS No. 20150030, Draft EIS, USN, WA, Land-Water Interface and Service Pier Extension at Naval Base Kitsap Bangor, Comment Period Ends:04/13/2015, Contact: Thomas Dildine 360-396-0018.

EIS No. 20150031, Draft EIS, BLM, NV,Gold Rock Mine Project, Comment Period Ends:03/30/2015, Contact: Dan Netcher 775-289-1872.

EIS No. 20150032, Draft EIS, BOP, KY,U.S. Penitentiary and Federal Prison Camp, Letcher County, Comment Period Ends: 03/30/2015, Contact: Issac Gaston 202-514-6470.

EIS No. 20150033, Draft EIS, USFS, ID,Salmon-Challis National Forest Invasive Plant Treatment, Comment Period Ends: 03/30/2015, Contact: Jennifer Purvine 208-879-4162.

EIS No. 20150034, Draft EIS, USACE, OR,Double-crested Cormorant Management Plan to Reduce Predation of Juvenile Salmonids in the Columbia River Estuary, Comment Period Ends:03/16/2015, Contact: Robert Winters 503-808-4738.

Amended Notices

EIS No. 20140372, Draft EIS, DOE, 00,Plains and Eastern Clean Line Transmission Project, Comment Period Ends: 04/20/2015, Contact: Jane Summerson, 505-845- 4091, Revision to FR Notice Published 12/29/2014; Extending Comment Period from 03/19/2015 to 04/20/2015

Dated: February 10, 2015.
Cliff Rader,
Director, NEPA Compliance Division, Office of Federal Activities.

[FR Doc. 2015-03068 Filed 2-12-15; 8:45 am]

BILLING CODE 6560-50-P